NATIONAL AERONAUTICS AND SPACE ADMINISTRATION

[Notice (19-012)]

NASA Advisory Council; Technology, Innovation and Engineering Committee; Meeting

AGENCY: National Aeronautics and Space Administration.

ACTION: Notice of meeting.

SUMMARY: In accordance with the Federal Advisory Committee Act, as amended, the National Aeronautics and Space Administration (NASA) announces a meeting of the Technology, Innovation and Engineering Committee of the NASA Advisory Council (NAC). This Committee reports to the NAC.

DATES: Tuesday, April 30, 2019, 8 a.m.-5 p.m., Eastern Time.

ADDRESSES: NASA Headquarters, Room 6H41, 300 E Street SW, Washington, DC 20546.

FOR FURTHER INFORMATION CONTACT: Mr. Mike Green, Designated Federal Officer, Space Technology Mission Directorate, NASA Headquarters, Washington, DC 20546, (202) 358-4710, or g.m.green@nasa.gov.

SUPPLEMENTARY INFORMATION: The meeting will be open to the public up to the seating capacity of the room. This meeting will also be available telephonically and by WebEx. You must use a touch-tone phone to participate in this meeting. Any interested person may dial the toll-free access number 1-844-467-6272 and enter the numeric participant passcode (102421) followed by the # sign. The WebEx link is https://nasaenterprise.webex.com, the meeting number is 902 250 755, and the password is “n@cTIE0419” (case sensitive). NOTE: If dialing in, please “mute” your telephone. The agenda for the meeting includes the following topics:

—Space Technology Mission Directorate Update and FY 2020 Budget Request Discussion

—Restore-L and In-space Robotic Manufacturing and Assembly (IRMA): Dragonfly Update

—Office of the Chief Technologist Update

—Nuclear Thermal Propulsion Update

—Office of the Chief Engineer Update

Attendees will be required to to sign a register and to comply with NASA security requirements including the presentation of a valid picture ID before receiving access to NASA Headquarters. Foreign nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Ms. Anyah Dembling via email at anyah.dembling@nasa.gov or by telephone at (202) 358-5195. U.S. citizens and Permanent Residents (green card holders) are requested to submit their name and affiliation no less than 3 working days prior to the meeting to Ms. Anyah Dembling. It is imperative that this meeting be held on this day to accommodate the scheduling priorities of the key participants.

Patricia Rausch,
Advisory Committee Management Officer, National Aeronautics and Space Administration.

[FR Doc. 2019-06870 Filed 4-5-19; 8:45 am]

BILLING CODE 7510-13-P